DEPARTMENT OF COMMERCE

Foreign-Trade Zones Board

[B-52-2020]

Foreign-Trade Zone 38—Spartanburg County, South Carolina, Application for Production Authority, Teijin Carbon Fibers, Inc., Amendment of Application

The Foreign-Trade Zones (FTZ) Board (the Board) has received a submission from the South Carolina State Ports Authority, grantee of FTZ 38, amending the application requesting production authority within FTZ 38 on behalf of Teijin Carbon Fibers, Inc. (TCF), in Greenwood, South Carolina. The Board is inviting public comment on the amendment to the application.

The amendment removes 12,000 tow polyacrylonitrile fiber (precursor) from the foreign-status materials/components that TCF could use under the requested FTZ authority. In response to this invitation for public comment, parties may also address argument or evidence presented in the application and in other prior submissions in this proceeding. The amendment, application and parties' submissions may be viewed in the Online FTZ Information System on the Board's website (accessible via www.trade.gov/ftz).

Public comment is invited from interested parties. Submissions shall be addressed to the Board's Executive Secretary and sent to: ftz@trade.gov.

The closing period for their receipt is June 3, 2021. Rebuttal comments in response to material submitted during the foregoing period may be submitted during the subsequent 15-day period (to June 18, 2021).

FOR FURTHER INFORMATION CONTACT: Diane Finver at Diane.Finver@trade.gov.

Dated: April 29, 2021.
Andrew McGilvray,
Executive Secretary.

[FR Doc. 2021-09378 Filed 5-3-21; 8:45 am]

BILLING CODE 3510-DS-P